DEPARTMENT OF COMMERCE

National Oceanic and Atmospheric Administration

[RTID 0648-XF470]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold public meetings of the Council including a joint session with the Atlantic States Marine Fisheries Commission (ASMFC) Policy Board.

DATES: The meetings will be held Tuesday, February 10 through Wednesday, February 11, 2026. For agenda details, see SUPPLEMENTARY INFORMATION.

ADDRESSES: This will be a fully virtual meeting. Council members, other meeting participants, and members of the public will participate via Webex webinar. Webinar connection instructions and briefing materials will be available at: https://www.mafmc.org/briefing/february-2026.

Council address: Mid-Atlantic Fishery Management Council, 800 N State St., Suite 201, Dover, DE 19901; telephone: (302) 674-2331; https://www.mafmc.org.

FOR FURTHER INFORMATION CONTACT: Christopher M. Moore, Ph.D., Executive Director, Mid-Atlantic Fishery Management Council; telephone: (302) 526-5255. The Council's website, https://www.mafmc.org, also has details on the meeting location, proposed agenda, webinar listen-in access, and briefing materials.

SUPPLEMENTARY INFORMATION: The following items are on the agenda, although agenda items may be addressed out of order (changes will be noted on the Council's website when possible).

Tuesday, February 10th

Executive Committee—Closed Session

Review Scientific and Statistical Committee (SSC) membership applications

River Herring & Shad (RHS) Update—Dr. Janet Nye and Kaitlynn Wade, University of North Carolina Institute of Marine Sciences

Review progress update on Inflation Reduction Act (IRA) project that is currently forecasting river herring bycatch risks

Introduction to Northwest Atlantic Fisheries Organization (NAFO) Illex Quota Issue

Review background information

Endorse evaluation approach

New England Fishery Management Council (NEFMC) Planning Update

Review ongoing work on NEFMC's new Risk Policy and NEFMC's new strategic plan

———LUNCH———

Legal Review, Financial Disclosure and Recusal Training—John Almeida, NOAA Fisheries General Counsel

Council Convenes With the Atlantic States Marine Fisheries Commission's (ASMFC's) Policy Board

Updates on Recreational Fisheries Issues

Review draft workshop plans and action plan updates for the Recreational Sector Separation Amendment

Review draft outline of Recreational Data Collection White Paper

Update on Marine Recreational Information Program (MRIP) Fishing Effort Survey revisions

Council and ASMFC Policy Board Adjourn

Wednesday, February 11th

Business Session

Committee Reports (Executive); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: January 20, 2026.
Rey Israel Marquez,
Acting Deputy Director, Office of Sustainable Fisheries, National Marine Fisheries Service.

[FR Doc. 2026-01189 Filed 1-21-26; 8:45 am]

BILLING CODE 3510-22-P